DEPARTMENT OF COMMERCE

Submission for OMB Review; Comment Request

The Department of Commerce will submit to the Office of Management and Budget (OMB) for clearance the following proposal for collection of information under the provisions of the Paperwork Reduction Act (44 U.S.C. Chapter 35).

AGENCY: National Oceanic and Atmospheric Administration (NOAA).

Title: Individual Fishing Quotas for Pacific Halibut and Sablefish in the Alaska Fisheries.

OMB Control Number: 0648-0272.

Form Number(s): None.

Type of Request: Regular submission.

Burden Hours: 20,364.

Number of Respondents: 2,470.

Average Hours per Response: Application to become a Community Quota Entity (CQE), 200 hours; application for eligibility to receive quota share (QS)/individual fishing quota (IFQ), QS holder form: identification of ownership interest, application for transfer of QS/IFQ to or from a CQE, application for transfer of QS/IFQ, 2 hours; IFQ/community development quota (CDQ) hired master permit, application for registered buyer permit, QS/IFQ designated beneficiary form, application for replacement of certificates, permits, or licenses, and approval of transfer from governing body of the eligible community, 30 minutes; letter of appeal, 4 hours; IFQ administrative waiver, 6 minutes; prior notice of landing, 12 minutes; landing report, 18 minutes; departure report, 15 minutes; transshipment authorization and dockside sales receipt, 12 minutes; and CQE annual report, 40 hours.

Needs and Uses: The National Marine Fisheries Service seeks to renew a collection-of-information for the continued management of the Individual Fishing Quota (IFQ) Program for fixed-gear Pacific halibut and sablefish fisheries off Alaska as well as the Western Alaska Community Development Quota Program (CDQ) halibut fishery. The IFQ program allocates annual total catch limits for the halibut and sablefish fisheries among individual fishermen and Gulf of Alaska Non-profit Organizations holding QS. The CDQ halibut program allocates annual total catch limits for the halibut fishery among individual CDQ fishermen. Fishermen are assigned Quota Shares (QS) for the fisheries, and then annually receive an IFQ and/or CDQ. Applications and reporting are required to manage and track the program.

Affected Public: Business or other for-profit organizations; not-for-profit institutions.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer.

Fax number (202) 395-7285, or David_Rostker@omb.eop.gov.

Dated: April 23, 2008.
Gwellnar Banks,
Management Analyst, Office of the Chief Information Officer.

[FR Doc. E8-9212 Filed 4-25-08; 8:45 am]

BILLING CODE 3510-22-P